DEPARTMENT OF COMMERCE

National Oceanic and Atmospheric Administration

[I.D. 041403A]

Proposed Information Collection; Comment Request; Southwest Region Permit Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 16, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Alvin Katekaru, 808-973-2935, ext. 2072937, or at Alvin.Katekaru@noaa.gov.

SUPPLEMENTARY INFORMATION:

I. Abstract

Permits are required for persons to participate in Federally-managed fisheries in the western Pacific region and off the West Coast. There are three types of permits: basic fishery permits (e.g., western Pacific general longline fishing and receiving permits, precious coral permits, and troll or handline permits for pelagic management unit species in waters around the U.S. Pacific remote island areas); limited entry permits for selected fisheries (e.g., Hawaii longline fishery, Northwestern Hawaiian Islands (NWHI) bottomfish fishery, West Coast coastal pelagic fishery); and experimental fishing permits (EFPs). Appeals and certain waivers requests can also be submitted. Some fisheries require an application to transfer a permit.

The permit application forms provide basic information about permit holders and the vessels and gear being used. This information is important for understanding the nature of the fisheries and provides a link to participants. It also aids enforcement of regulations.

II. Method of Collection

Paper forms are required for most permit applications. Experimental fishing permits, waivers, and appeals are submitted in paper format, but forms are not used.

III. Data

OMB Number: 0648-0204.

Form Number: None.

Type of Review: Regular submission.

Affected Public: Business or other for-profit organizations, individuals or households.

Estimated Number of Respondents: 369.

Estimated Time Per Response: 30 minutes for a permit application or permit transfer (unless otherwise noted below); 1 hour for additional permit information (when requested) for the coastal pelagic fishery of the Pacific coast; 1 hour for a limited entry permit application for bottomfish in the NWHI Ho'omalu Zone; 2 hours for a permit appeal; 2 hours for an application for an exemption or experimental fishing permit; and 1 hour for a waiver for NWHI Ho'omalu Zone or Mau Zone bottomfish permit renewal requirements.

Estimated Total Annual Burden Hours: 248.

Estimated Total Annual Cost to Public: $185.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 10, 2003.
Gwellnar Banks,
Management Analyst, Office of the Chief Information Officer.

[FR Doc. 03-9487 Filed 4-16-03; 8:45 am]

BILLING CODE 3510-22-S